DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 (Pub. L. 104-13, 44 U.S.C. 3507) and 5 CFR 1320, Reporting and Recordkeeping Requirements, the National Park Service invite public comments on eight proposed information collection requests (ICR) for the Land and Water Conservation Fund (LWCF) and Urban Park and Recreation Recovery (UPARR) grant programs.

1. LWCF Description and Notification (DNF) Form. The DNF is necessary to provide data input into the NPS Automated Project information system which provides timely data on projects funded over the life of the LWCF program.

2. LWCF Program Performance Report. As required by OMB Circular A-102, grantees must submit performance requirements which describe the status of the work required under the project scope.

3. LWCF Project Agreement and Amendment Form. The Project Agreement and Amendment forms set forth the obligations assumed by the State through its acceptance of Federal assistance under the LWCF Act and any special terms and conditions.

4. LWCF On-Site Inspection Report. The On-Site Inspection Reports are used to insure compliance by grantees with applicable Federal and program guidelines, and to insure the continued viability of the funded site.

5. LWCF Conversion of Use Provisions. To convert assisted sites to other than public outdoor recreation, LWCF project sponsors must provide relevant information necessary to comply with Section 6(f)(3) of the LWCF Act of 1965.

6. UPARR Project Performance Report. As required by OMB Circular A-102, grant recipients must submit performance reports which describe the status of the work required under the project scope.

7. UPARR Conversion of Use Provisions. To convert assisted sites to other than public recreation, UPARR project sponsors must provide relevant information necessary to comply with the section 1010 of the UPARR Act of 1978.

8. UPARR Project Agreement and Amendment Form. The Project agreement and amendment forms set forth the obligations assumed by grant recipients through their acceptance of Federal Assistance under the UPARR Act and any special terms and conditions.

DATES: Public comments on these eight proposed Information Collection Request (ICRs) will be accepted on or before May 14, 2007.

ADDRESSES: Send comments to Michael D. Wilson, Chief or Sylvia H. Wood, Outdoor Recreation Planner, State and Local Assistance Programs Division, National Park Service (2225), 1849 C Street, NW., Washington, DC 20240-0001 or via e-mail at michael_d_wilson@nps.gov or Sylvia_Wood@nps.gov. Also, you may send a copy of your comments to Leonard Stowe, Information Collection Clearance Officer, NPS, 1849 C St., NW. (2605), Washington, DC 20240, or by e-mail at Leonard_Stowe@nps.gov. All responses to this notice will be summarized and included in the requests for Office of Management and Budget (OMB) approval. All comments will become a matter of public record.

FOR FURTHER INFORMATION CONTACT: Sylvia H. Wood, Outdoor Recreation Planner, State and Local Assistance Programs Division, 1849 C St., NW. (2225), Washington, DC 20240, via phone at 202/354-6914, via e-mail at Sylvia_Wood@nps.gov, or via fax at 202/354-6900. You are entitled to a copy of the entire ICR package free of charge.

SUPPLEMENTARY INFORMATION: Expiration Date: May 31, 2007.

Type of Request: Extension of currently approved information collections.

Title: LWCF Description and Notification Form (DNF).

Form: NPS 10-903.

OMB Number: 1024-0031.

Expiration Date: May 31, 2007.

Type of Request: Data Input.

Description of Need: Provision of computer data.

Description of Respondents: 56 State Governments, DC and Territories.

Estimated Annual; Reporting Burden: 450 hours.

Estimated Average Burden Hours Per Response: 1.0 hours.

Estimated Frequency of Response: 450 nationwide.

Title: LWCF Program Performance Report.

Form: None.

OMB Number: 1024-0032.

Expiration Date: May 31, 2007.

Type of Request: Performance report describing project status.

Description of Need: For monitoring project status.

Description of Respondents: 56 State Governments, DC and Territories.

Estimated Annual Reporting Burden: 700 hours.

Estimated Average Burden Hours Per Response: 1.0 hours.

Estimated Frequency of Response: 700 nationwide.

Title: LWCF Project Agreement and Amendment Forms.

Form: NPS 10-902 and 10-902a, respectively.

OMB Number: 1024-0033.

Expiration Date: May 31, 2007.

Type of Request: Grant agreement.

Description of Need: Sets forth conditions of the grant award.

Description of Respondents: 56 State Governments, DC and Territories.

Estimated Annual Reporting Burden: 1,350 hours.

Estimated Average Burden Hours Per Response: 3.0 hours.

Estimated Frequency of Response: 450 nationwide.

Title: LWCF On-Site Inspection Report.

Form: None.

OMB Number: 1024-0034.

Expiration Date: May 31, 2007.

Type of Request: Site condition/comment checklist.

Description of Need: To assure program/grant/Federal compliance.

Description of Respondents: 56 State Governments, DC and Territories.

Estimated Annual Reporting Burden: 3,700 hours.

Estimated Average Burden Hours Per Response: 0.5 hours.

Estimated Frequency of Response: 7,400 nationwide.

Title: LWCF Conversion of Use Provisions.

Form: None.

OMB Number: 1024-0047.

Expiration Date: May 31, 2007.

Type of Request: Application to substitute replacement property for the funded site.

Description of Need: Compliance with LWCF Act Section 6(f)(3).

Description of Respondents: 56 State Governments, DC and Territories.

Estimated Annual Reporting Burden: 1,750 hours.

Estimated Average Burden Hours Per Response: 35 hours.

Estimated Frequency of Response: 50 nationwide.

Title: UPARR Project Performance Report.

Form: None.

OMB Number: 1024-0028.

Expiration Date: May 31, 2007.

Type of Request: Performance report describing project status.

Description of Need: For monitoring project status.

Description of Respondents: Urban cities and counties.

Estimated Annual Reporting Burden: 246 hours.

Estimated Average Burden Hours Per Response: 1.5 hours.

Estimated Frequency of Response: 164 nationwide.

Title: UPARR Conversion of Use Provisions.

Form: None.

OMB Number: 1024-0048.

Expiration Date: May 31, 2007.

Type of Request: Application to substitute replacement property for the funded site.

Description of Need: Compliance with UPARR Act Section 1010.

Description of Respondents: Urban cities and counties.

Estimated Annual Reporting Burden: 75 hours.

Estimated Average Burden House Per Response: 25 hours.

Estimated Frequency of Response: 3 nationwide.

Title: UPARR Project Agreement and Amendment Forms.

Form: NPS 10-912 and 10-915, respectively.

OMB Number: 1024-0089.

Expiration Date: May 31, 2007.

Type of Request: Grant agreement.

Description of Need: Set forth conditions of the grant award.

Description of Respondents: Urban cities and counties.

Estimated Annual Reporting Burden: 20 hours.

Estimated Average Burden House Per Response: 1.0 hours.

Estimated Frequency of Response: 20 nationwide.

Comments are invited on (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: March 5, 2007.
Leonard E. Stowe,
NPS, Information Collection Clearance Officer.

[FR Doc. 07-1180 Filed 3-13-07; 8:45 am]

BILLING CODE 4310-EM-M